DEPARTMENT OF VETERANS AFFAIRS

Veterans' Disability Benefits Commission; Notice of Meetings

The Department of Veterans Affairs (VA) gives notice under Public Law 92-463 (Federal Advisory Committee Act) that the Veterans' Disability Benefits Commission will hold meetings on August 8-10, 2007 and August 22-24, 2007, at the Hotel Washington, 15th Street and Pennsylvania Avenue, NW., Washington, DC. On August 8 and August 22, the sessions will begin at 10 a.m. and end at 4:30-5:30 p.m. On August 9 and August 23, the sessions will begin at 8:30 a.m. and end at 4:30-5:30 p.m. On August 10 and August 24, the sessions will begin at 8:30 a.m. and end at 12 noon-3 p.m. depending on the final agenda for each session. Each meeting is open to the public.

The purpose of the Commission is to carry out a study of the benefits under the laws of the United States that are provided to compensate and assist veterans and their survivors for disabilities and deaths attributable to military service.

The agenda for the first August meeting will feature the final report of the Center of Naval Analyses (CNA) and a report of the Institute of Medicine (IOM) Committee on Presumptions. The Commission will review technical comments from VA and make final decisions on three Issues Papers related to specific Research Questions approved by the Commission on October 14, 2005. The topics will be: Transition Issues (addressing Research Questions 26-31), Vocational Rehabilitation and Employment (Research Question 17), and Ancillary and Special Purpose Benefits (Research Question 20). VA and the Department of Defense (DoD) will respond to the report of the IOM Committee on Medical Evaluation of Veterans for Disability, and the Commission will decide its position on the two IOM studies and recommendations made to VA on the topic of Post-Traumatic Stress Disorder (PTSD). Additional discussions and potential decisions will be reached on options to achieve equity in lifetime benefits, integrating the findings of various studies and research projects conducted for the Commission, and drafting the Commission's final report.

The agenda for the second August meeting will be devoted to drafting the Commission's final report and may include a limited number of clarifying presentations on topics the Commission requires to complete its final report.

There will be time set aside at each meeting for public comments. Interested persons may attend and present oral statements to the Commission on August 8 or August 22. Oral presentations will be limited to five minutes or less. Interested parties may also provide written comments for review by the Commission prior to the meeting or at any time, by e-mail to veterans@vetscommission.com or by mail to Mr. Ray Wilburn, Executive Director, Veterans' Disability Benefits Commission, 1101 Pennsylvania Avenue, NW., 5th Floor, Washington, DC 20004.

Dated: July 23, 2007.
By direction of the Secretary:
E. Philip Riggin,
Committee Management Officer.

[FR Doc. 07-3675 Filed 7-26-07; 8:45 am]

BILLING CODE 8320-01-M